DEPARTMENT OF HEALTH AND HUMAN SERVICES

Food and Drug Administration

[Docket No. 2004N-0101]

Agency Information Collection Activities; Announcement of Office of Management and Budget Approval; Requirements for Testing Human Blood Donors for Evidence of Infection Due to Communicable Disease Agents; and Requirements for Donor Notification

AGENCY: Food and Drug Administration, HHS.

ACTION: Notice.

SUMMARY: The Food and Drug Administration (FDA) is announcing that a collection of information entitled “Requirements for Testing Human Blood Donors for Evidence of Infection Due to Communicable Disease Agents; and Requirements for Donor Notification” has been approved by the Office of Management and Budget (OMB) under the Paperwork Reduction Act of 1995.

FOR FURTHER INFORMATION CONTACT: JonnaLynn Capezzuto, Office of Management Programs (HFA-250), Food and Drug Administration, 5600 Fishers Lane, Rockville, MD 20857, 301-827-4659.

SUPPLEMENTARY INFORMATION: In the Federal Register of July 12, 2004 (69 FR 41809), the agency announced that the proposed information collection had been submitted to OMB for review and clearance under 44 U.S.C. 3507. An agency may not conduct or sponsor, and a person is not required to respond to, a collection of information unless it displays a currently valid OMB control number. OMB has now approved the information collection and has assigned OMB control number 0910-0472. The approval expires on November 30, 2005. A copy of the supporting statement for this information collection is available on the Internet at http://www.fda.gov/ohrms/dockets.

Dated: October 4, 2004.
Jeffrey Shuren,
Assistant Commissioner for Policy.

[FR Doc. 04-22768 Filed 10-8-04; 8:45 am]

BILLING CODE 4160-01-S